DEPARTMENT OF HEALTH AND HUMAN SERVICES

Centers for Disease Control and Prevention

[60Day-04-31]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project—Brownsville-Matamoros Sister City Project (BMSCP) for Women's Health—New—National Center for Chronic Disease Prevention and Health Promotion (NCCDPHP), Centers for Disease Control and Prevention (CDC). The Brownsville-Matamoros Sister City Project for Women's Health is a proposed pilot project in which a standardized approach to surveillance will be established in selected hospitals that provide obstetric services in Brownsville and Harlingen, Texas, U.S., and Matamoros, Tamaulipas, Mexico.

During 2003 and 2004, CDC provided funds to support staff from CDC, NCDDPHP, the University of Texas at Brownsville/Texas Southmost College, the University of Texas—Houston School of Public Health, and Helix, Inc. These funds were used to disseminate information or inform health practitioners and public health officials at the local, state and national level about the BMSCP, implement development of the methodology and data collection instruments for the pilot phase of data collection described herein, conduct discussion groups (currently ongoing) to determine the appropriate language for interviews, and to determine the acceptability of topic areas to be covered in the interviews, and the appropriateness of the proposed methodology.

The purpose of the proposed data collection is to test a standardized approach for hospital-based surveillance of women's health and chronic disease issues in the US-Mexico border communities of Brownsville and Harlingen, Texas, and Matamoros, Tamaulipas, Mexico. The primary method of data collection will be in-person interviews with women who give birth to live infants; which may be supplemented by abstracting additional data from the medical records of respondents and birth certificates of their infants. The majority of interviews will take place after delivery but prior to hospital discharge.

Women who are selected for the pilot project but discharged prior to interview will be interviewed at the clinic they attend for postnatal care. The questionnaire will include questions to help monitor the occurrence of and risk factors for adolescent pregnancy, infant mortality, and gestational diabetes, as well as questions about physical activity and dietary practices, cervical cancer screening history, and knowledge of HIV transmission and prevention. These issues have been established as priorities by the U.S.-Mexico Binational Health Commission (USMBHC) and are included in the Healthy Border 2010 objectives of the USMBHC. This approach to surveillance through which data will be collected using a standardized and uniform methodology on the U.S. and Mexican sides of the US-Mexico border is needed.

Most data collection systems currently in place have been designed to collect information from either U.S. or Mexican residents, and the methodology of such systems is not comparable. Persons living along the US-Mexico border frequently cross the border in both directions for healthcare, work, and social reasons, they represent a unique population with respect to public health needs and public health program access. This pilot project will be conducted during fiscal year 2005. If successful, this surveillance system may serve as a model for surveillance in other border communities. There will be no cost to respondents.

Respondents | Number of respondents | Number of responses per respondent | Average burden per response (in hours) | Total burden (in hours)
U.S. | 400 | 1 | 30/60 | 200
Mexico | 400 | 1 | 30/60 | 200
Total |  |  |  | 400

Dated: March 5, 2004.
Alvin Hall,
Director, Management Analysis and Services Office, Centers for Disease Control and Prevention.

[FR Doc. 04-5728 Filed 3-12-04; 8:45 am]

BILLING CODE 4163-18-P